DEPARTMENT OF HEALTH AND HUMAN SERVICES

Administration for Children and Families

[ACYF/FYSB 2004-EV-0022A]

Notice of Correction for the FY04 Discretionary Grants Family Violence Prevention and Services—Domestic Violence/Runaway and Homeless Youth Collaboration on the Prevention of Adolescent Dating Violence Program Announcement; HHS-2004-ACF-ACYF-EV-0022; CFDA# 93.592

AGENCY: Administration on Children, Youth, and Families, ACF, DHHS.

ACTION: Notice of correction.

SUMMARY: This notice is to inform interested parties of corrections made to the Domestic Violence/Runaway Homeless Youth Program Announcement published on Tuesday, June 1, 2004. The following corrections should be noted:

Under Eligible Applicants the paragraph should read as follows: Eligible applicants are: Local public agencies and non-profit community-based organizations, faith-based and charitable organizations who are recipients, or have been recipients, of grant awards for Basic Center, Transitional Living and Street Outreach Family and Youth Services Bureau-funded projects; and non-profit domestic violence advocacy organizations, and domestic violence State Coalitions who are or have been recipients of Family Violence Prevention and Services grant awards.

FOR FURTHER INFORMATION CONTACT: ACYF Operations Center at (866) 796-1591 or fysb@dixongroup.com.

Dated: June 16, 2004.
Joan E. Ohl,
Commissioner, Administration on Children, Youth and Families.

[FR Doc. 04-14355 Filed 6-23-04; 8:45 am]

BILLING CODE 4184-01-P